DEPARTMENT OF THE INTERIOR

National Park Service

Notice of Availability of the Final Environmental Impact Statement for the General Management Plan, Lincoln Boyhood National Memorial, IN

AGENCY: National Park Service, Department of the Interior

SUMMARY: Pursuant to section 102(2)(C) of the National Environmental Policy Act of 1969, 42 U.S.C. 4332(2)(C), the National Park Service (NPS) announces the availability of the final environmental impact statement/general management plan (EIS/GMP), Lincoln Boyhood National Memorial, Indiana.

DATES: The draft EIS/GMP was on public review for 60 days beginning on June 17. Responses to substantive public comments are addressed in the final EIS/GMP. The NPS will execute a record of decision (ROD) no sooner than 30 days following publication of the Environmental Protection Agency's notice of availability of the final EIS/GMP in the Federal Register.

ADDRESSES: Copies of the Final GMP/EIS are available by request by writing to the Superintendent at Lincoln Boyhood National Memorial, P.O. Box 1816, Lincoln City, Indiana 47552-1816; by telephoning the park office at (812) 937-4541; or by e-mail at <randy_wester@nps.gov>. The document is also available to be picked up in person at the Lincoln Boyhood National Memorial (Memorial). In addition, the document can be found at the Memorial Web site (http://www.nps.gov/libo/pphtml/documents.html), and at the Planning, Environment, and Public Comment Web site (http://parkplanning.nps.gov/).

FOR FURTHER INFORMATION CONTACT: Superintendent, Lincoln Boyhood National Memorial, P.O. Box 1816, Lincoln City, Indiana 47552-1816.

SUPPLEMENTARY INFORMATION: Under the preferred alternative, the NPS would emphasize a greater array of interpretive opportunities, with the focus on the history of the Lincoln family in southern Indiana, and on the natural and sociopolitical environment of the times. The Lincoln Living Historical Farm would retain its current character; however, the interpretive program would provide visitors with interpretive opportunities and demonstrations directly related to the Lincoln story and the way in which the family likely lived in Indiana. The Memorial building and court would remain largely unchanged, but new administrative offices would be added to the rear of the structure. Where possible, some elements of the cloister could be returned to their original design. The new addition or structure would harmonize in size, scale, proportion, and materials with the extant structure, and would not intrude on the historic scene.

Among the alternatives the NPS considered, the preferred alternative best protects the Memorial's natural and cultural resources, while also providing a range of quality recreational and educational experiences. It also meets NPS goals for managing the Memorial, and meets national environmental policy goals. The preferred alternative will not result in the impairment of resources and values. The full range of foreseeable environmental consequences was assessed.

During the public review period for the draft EIS/GMP, a total of 12 comments were received from other agencies and private individuals. None of the comments initiated a change in the results of the analysis of impacts on important resources. However, several recommendations were made concerning the management of native tree species and were incorporated into the final EIS. Other concerns were expressed considering the need for visitors to cross the existing county road and the existing railroad track. The NPS will provide proper signage for these crossings and will work with the county government to install traffic calming devices on the county road. Other concerns included the current and future route of the U.S. Highway 231.

Dated: October 28, 2005.
Ernest Quintana,
Regional Director, Midwest Region.

[FR Doc. E5-7266 Filed 12-12-05; 8:45 am]

BILLING CODE 4312-89-P